DEPARTMENT OF THE INTERIOR

Fish and Wildlife Service

[FWS-HQ-WSFR-2018-N088; 91400-5110-0000; 91400-9410-0000]

The Fiscal Year 2017 Multistate Conservation Grant Program Award List

AGENCY: Fish and Wildlife Service, Interior.

ACTION: Notice of receipt of priority list and publication of grant awards into the Federal Register.

SUMMARY: We, the U.S. Fish and Wildlife Service, announce the Fiscal Year (FY) 2017 priority list of grant awards for the wildlife and sport fish conservation projects from the Association of Fish and Wildlife Agencies (Association). As required by the Wildlife and Sport Fish Restoration Programs Improvement Act of 2000, the Association submits a list of projects to us each year to consider for funding under the Multistate Conservation Grant Program. We have reviewed the list and recommended all for award to the Director. The Director approved the list of projects for award and we have awarded all projects from the list.

ADDRESSES: John C. Stremple, Multistate Conservation Grants Program Coordinator; Wildlife and Sport Fish Restoration Program; U.S. Fish and Wildlife Service; 5275 Leesburg Pike; MS: WSFR; Falls Church, VA 22041-3808.

FOR FURTHER INFORMATION CONTACT: John C. Stremple, (703) 358-2156 (phone) or John_Stremple@fws.gov (email).

SUPPLEMENTARY INFORMATION: The Fish and Wildlife Programs Improvement and National Wildlife Refuge System Centennial Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the restoration acts, for a total of up to $6 million annually. Projects can be funded from both funds, depending on the project activities. We may award grants to projects from a list of priority projects recommended to us by the Association. The Service Director, exercising the authority of the Secretary of the Interior, need not fund all projects on the list, but all projects funded must be on the list.

The Improvement Act provides that funding for Multistate grants is available in the year it is appropriated and for the following year. Total funding available for new FY 2017 Multistate Conservation grants was $2,522,000. This total was made up of funding that was carried over from FY 2016, added to the funding that was previously sequestered, and subtracted committed funds ($3,261,027) for FY 2017. Those committed funds were directed into the three components of the 2016 National Survey of Fishing, Hunting, and Wildlife-Associated Recreation (parts A and B).

Grantees under this program may use funds for sport fisheries and wildlife management and research projects, boating access development, hunter safety and education, aquatic education, fish and wildlife habitat improvements, and other purposes consistent with the enabling legislation.

To be eligible for funding, a project must benefit fish and/or wildlife conservation for at least 26 States, a majority of the States in any one Service Region, or one of the regional associations of State fish and wildlife agencies. We may award grants to a State, a group of States, or one or more nongovernmental organizations. For the purpose of carrying out the National Survey of Fishing, Hunting, and Wildlife-Associated Recreation, we may award grants to the Service, if requested by the Association, or to a State or a group of States. Also, the Association requires all project proposals to address its National Conservation Needs, which the Association announces annually at the same time it requests proposals. Further, applicants must provide certification that no activities conducted under a Multistate Conservation Grant will promote or encourage opposition to regulated hunting or trapping of wildlife, or to regulated angling or taking of fish.

The Association committees and interested nongovernmental organizations that represent conservation organizations, sportsmen's and women's organizations, and industries that support or promote fishing, hunting, trapping, recreational shooting, bowhunting, or archery review and rank eligible project proposals. The Association's National Grants Committee recommends a final list of priority projects to the directors of the State fish and wildlife agencies for their approval by majority vote. By statute, the Association then transmits the final approved list to the Service for funding under the Multistate Conservation Grant program by October 1 of the fiscal year. For FY 2017, the Association sent us a list of 17 new projects, plus the three previously approved components of the 2016 National Survey of Fishing, Hunting, and Wildlife-Associated Recreation that they recommended for funding. The Director approved all projects on this list and all have been awarded. The list follows:

Multistate Conservation Grant Program
[FY 2017 Projects]
ID | Title | Submitter | PR funding ¹ | DJ funding ² | Total 2017 grant
1 | State Fish & Wildlife Agency Technical Workgroup for the 2016 National Survey | AFWA | $51,040 | $51,040 | $102,080
2 | State Fish and Wildlife Agency Coordination and Communication | AFWA | 80,241 | 80,241 | 160,482
3 | Coordination of Farm Bill Implementation | AFWA | 76,510 | 76,510 | 153,020
4 | Multistate Conservation Grant Program Coordination | AFWA | 42,000 | 42,000 | 84,000
5 | Management Assistance Team and the National Conservation Leadership Institute | AFWA | 270,376.63 | 270,376.63 | 540,753.26
6 | State Fish & Wildlife Agency Director Travel-Enabling Coordination and Planning of National Level Conservation Initiatives | AFWA | 50,000 | 50,000 | 100,000
7 | Increasing Awareness and Knowledge of Fish and Wildlife Management Through Legal Education that Instructs on the North American Model of Wildlife Conservation and the Public Trust | AFWA | 50,000 | 50,000 | 100,000
8 | Preserve State Agencies' Authority to Manage Wildlife Resources and Promote Their Interest in the Implementation of International Treaties | AFWA | 33,600 | 33,600 | 67,200
9 | Implementation of the National Hunting & Shooting Sports Action Plan | CAHSS | 171,000 | 0 | 171,000
10 | Telling the State Story to Ensure Fish and Wildlife Agency Relevancy | AFWA | 42,600 | 42,600 | 85,200
11 | Coordination of the Industry, Federal, and State Agency Coalition | AFWA | 77,130 | 77,130 | 154,260
12 | 2017 National WSFR—Federal Aid Coordinators Meeting | WMI | 94,874 | 94,874 | 189,748
13 | Applying Wildlife Governance Principles to Enhance Leadership and Relevance of State Wildlife Agencies | WMI | 49,680 | 49,680 | 99,360
14 | 2017—Raising Awareness of the WSFR Program and Improving Industry Relations To Ensure the Long-term Stability of the Program | WMI | 86,864.50 | 86,864.50 | 173,729
15 | Advancing the Objectives of the National Fish Habitat Action Plan through Regional and Collaborative Science and Priority Setting | AFWA/NFHB | 0 | 143,711.87 | 143,711.87
16 | Quantifying and Communicating the Economic Significance of Hunting and Shooting Sports | NSSF | 98,000 | 0 | 98,000
17 | Quantifying and Communicating the Economic Significance of Sportfishing | ASA | 0 | 99,200 | 99,200
NS | Coordination of the 2016 National Survey Efforts (part A) | FWS | 131,560 | 131,560 | 263,120
NS | National Level Results for the 2016 Survey of Fishing, Hunting, and Wildlife-Associated Recreation (Part A) | FWS/U.S. Census Bureau | 884,824 | 884,824 | 1,769,648
NS | 2016 Fifty State Surveys Related to Fishing, Hunting, and Wildlife-Associated Recreation (Part B) | Rockville Intitute (Westat) | 614,129.50 | 614,129.50 | 1,228,259
|  |  | 2,904,429.63 | 2,878,341.50 | 5,782,771.13
¹ PR Funding: Pitman-Robertson Wildlife Restoration funds.
² DJ Funding: Dingell-Johnson Sport Fish Restoration funds.
AFWA: Association of Fish and Wildlife Agencies.
ATA: Archery Trade Association.
ASA: American Sportfishing Association.
CAHSS: Council to Advance Hunting and the Shooting Sports.
NFHB: National Fish Habitat Board.
NS: 2016 National Survey of Fishing, Hunting, and Wildlife- Associated Recreation.
NSSF: National Shooting Sports Foundation.
WMI: Wildlife Management Institute.

Dated: June 22, 2018.
James W. Kurth,
Deputy Director for U.S. Fish and Wildlife Service, Exercising the Authority of the Director for U.S. Fish and Wildlife Service.

[FR Doc. 2018-18235 Filed 8-22-18; 8:45 am]

BILLING CODE 4333-15-P